DEPARTMENT OF THE INTERIOR

National Park Service

[NPS-WASO-NAGPRA-NPS0040329; PPWOCRADN0-PCU00RP14.R50000]

Notice of Inventory Completion: Louisiana State University, Museum of Natural Science, Baton Rouge, LA

AGENCY: National Park Service, Interior.

ACTION: Notice.

SUMMARY: In accordance with the Native American Graves Protection and Repatriation Act (NAGPRA), the Louisiana State University, Museum of Natural Science (LSUMNS) has completed an inventory of human remains and has determined that there is a cultural affiliation between the human remains and Indian Tribes or Native Hawaiian organizations in this notice.

DATES: Repatriation of the human remains in this notice may occur on or after July 11, 2025.

ADDRESSES: Send written requests for repatriation of the human remains in this notice to Dr. Irene Martí Gil, LSU Museum of Natural Science, 119 Foster Hall, LSU, Baton Rouge, LA 70803, email imart23@lsu.edu.

SUPPLEMENTARY INFORMATION: This notice is published as part of the National Park Service's administrative responsibilities under NAGPRA. The determinations in this notice are the sole responsibility of the LSUMNS, and additional information on the determinations in this notice, including the results of consultation, can be found in the inventory or related records. The National Park Service is not responsible for the determinations in this notice.

Abstract of Information Available

Based on the information available, human remains representing, at least, one individual have been reasonably identified. No known individuals were identified. No associated funerary objects are present. These remains were removed from the Hornsby site (16SH21), located in St. Helena Parish, LA, probably by Joseph Manuel Jr. as part of an excavation through the Delta Chapter Louisiana Archaeological Society in March 1977. In 2023, these remains were transferred to the LSUMNS. As a result of the fragmentary nature of the remains no age or sex determination was made.

Cultural Affiliation

Based on the information available and the results of consultation, cultural affiliation is reasonably identified by the geographical location or acquisition history of the human remains described in this notice.

Determinations

The LSUMNS has determined that:

• The human remains described in this notice represent the physical remains of one individual of Native American ancestry.

• There is a reasonable connection between the human remains described in this notice and the Caddo Nation of Oklahoma; Chitimacha Tribe of Louisiana; Coushatta Tribe of Louisiana; Jena Band of Choctaw Indians; Mississippi Band of Choctaw Indians; The Choctaw Nation of Oklahoma; and the Tunica-Biloxi Indian Tribe.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after July 11, 2025. If competing requests for repatriation are received, the LSUMNS must determine the most appropriate requestor prior to repatriation. Requests for joint repatriation of the human remains are considered a single request and not competing requests. The LSUMNS is responsible for sending a copy of this notice to the Indian Tribes and Native Hawaiian organizations identified in this notice.

Authority: Native American Graves Protection and Repatriation Act, 25 U.S.C. 3003, and the implementing regulations, 43 CFR 10.10.

Dated: May 28, 2025.
Melanie O'Brien,
Manager, National NAGPRA Program.

[FR Doc. 2025-10599 Filed 6-10-25; 8:45 am]

BILLING CODE 4312-52-P